DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 16, 2001.

Interested persons are invited to submit written comments regarding the subject matter of the investigations to the Director, Division of Trade Adjustment Assistance, at the address shown below, not later than July 16, 2001.

The petitions filed in this case are available for inspection at the Office of the Director, Division of Trade Adjustment Assistance, Employment and Training Administration, U.S. Department of Labor, Room C-5311, 20 Constitution Avenue, NW., Washington, DC 20210.

Signed at Washington DC this 4th day of June, 2001.
Edward A. Tomchick,
Director, Division of Trade Adjustment Assistance.

APPENDIX
[Petitions Instituted on 06/04/2001]
TA-W | Subject firm (petitioners) | Location | Date of petition | Product(s)
39,363 | Pratt and Whitney, HAC (Co.) | Grand Prairie, TX | 05/29/2001 | Composites
39,364 | Spartan Int'l, Rosemont (Wrks) | Jonesville, SC | 05/11/2001 | Woven Fabrics and Yarn
39,365 | Eagle Affiliates (Wrks) | Harrison, NJ | 05/14/2001 | Houseware Items
39,366 | Mattel-Murray (Co.) | Murray, KY | 04/27/2001 | Toys
39,367 | Computrex, Inc. (Co.) | Nicholasville, KY | 04/27/2001 | Freight Bill Processing
39,368 | Siemens Automotive Corp. (Co.) | Johnson City, TN | 05/18/2001 | Electronic Controls for Airbags
39,369 | Hager Hinge Co (Co.) | Greenville, MS | 05/16/2001 | Door Hinges
39,370 | Securing Plastics, Inc. (Wrks) | Miami Lakes, FL | 05/17/2001 | Plastic Components
39,371 | Dev and P, Inc (Wrks) | New York, NY | 05/18/2001 | Ladies' Apparel
39,372 | Rockwell Collins (Co.) | Pomona, CA | 05/11/2001 | In Flight Entertainment Systems
39,373 | Carbide/Graphite Group (Wrks) | St. Marys, PA | 05/18/2001 | Electrodes
39,374 | Signature Cloth (UNITE) | Clifton, NJ | 05/18/2001 | Textiles Fabrics
39,375 | Sun Studs, Inc. (Co.) | Roseburg, OR | 05/18/2001 | Veneer
39,376 | Ocello, Inc (Wrks) | Richland, PA | 05/17/2001 | Knit Garments—Men, Women & Children
39,377 | Nabisco Biscuit (IAMAW) | Niagara Falls, NY | 05/18/2001 | Triscuit Crackers
39,378 | Flextronics (Co.) | Chambersburg, PA | 05/18/2001 | Outdoor Enclosures—Telecommunication
39,379 | Savannah Luggage Works (Co.) | Vadalia, GA | 05/14/2001 | Luggage
39,380 | Spinnaker Coating Maine (Co.) | Westbrook, ME | 05/22/2001 | Pressure Sensitive Papers
39,381 | Electrolux Home Products (Wrks) | Nashville, AR | 05/15/2001 | Electrical Cords
39,382 | Allied Vaughn (Wrks) | Clinton, TN | 05/17/2001 | Compact Disc and Video Cassettes
39,383 | Tridelta Industries, Inc. (Co.) | Mentor, OH | 05/18/2001 | Pneumatic Controls
39,384 | Electrolux, Inc. (Co.) | Piney Flats, TN | 05/17/2001 | Vaccum Cleaner Motors
39,385 | AMI Semiconductor (Wrks) | Pocatello, ID | 05/17/2001 | Integrated Circuits
39,386 | Bennett Pump Co. (Co.) | Springlake, MI | 05/17/2001 | Hydraulic Fluid Measuring Device
39,387 | Steiger Lumber Co (Co.) | Bessemer, MI | 05/21/2001 | Hardwood
39,388 | Carolina Mills, Inc. (Co.) | Lincolnton, NC | 05/20/2001 | Textile Yarns
39,389 | Precision Marshall Steel (Wrks) | Washington, PA | 05/12/2001 | Finished Tool Steel
39,390 | J and A Manufacturing Co (Co.) | Scranton, PA | 05/21/2001 | Vests and Tuxedo Jackets
39,391 | BMH Chronos Richardson (Co.) | Fairfield, NJ | 05/17/2001 | Packaging Equipment
39,392 | Aavid Thermalloy (Co.) | Dallas, TX | 05/25/2001 | Heat Sinks, & Semi Conductor Accessories
39,393 | UCAR Carbon Co., Inc (IUOE) | Columbia, TN | 05/23/2001 | Graphic Electrodes
39,394 | Pittsburgh Gear Works (USWA) | Pittsburgh, PA | 05/23/2001 | Shafts, Wheels and Gears
39,395 | Flynt Fabrics, Inc. (Co.) | Graham, NC | 05/24/2001 | Circular Knit Fabrics
39,396 | Carter Industries, Inc (Wrks) | Brooklyn, NY | 05/22/2001 | Jackets, Uniforms, Coveralls—Pilots
39,397 | Teleflex-Morse (USWA) | Hudson, OH | 05/25/2001 | Conduit and Cable Components
39,398 | Boss Industries, Inc. (Wrks) | Erie, PA | 05/16/2001 | Plastic Injection Molds
39,399 | Lomac LLC (Wrks) | Muskegon, MI | 05/18/2001 | Dichlorobenzene and Dihydrochloride
39,400 | P.J. Sewing Co., Inc. (Co.) | Ivyland, PA | 05/24/2001 | Sell, Install & Service Sewing Machines
39,401 | Industrial Seaming Co (Co.) | Granite Falls, NC | 05/24/2001 | Crib Sheets and Diaper Stackers
39,402 | Chino Mines Co (Wrks) | Hurley, NM | 05/25/2001 | Copper
39,403 | Phelps Dodge Tyrone, Inc. (Wrks) | Tyrone, NM | 05/24/2001 | Copper Cathodes
39,404 | Empire Specialty Steel (USWA) | Dunkirk, NY | 05/24/2001 | Stainless Steel Bar, Rod, Wire, Tubes
39,405 | Vishay Roederstein (Co.) | Statesville, NC | 05/23/2001 | Electronic Components
39,406 | Artesyn Technologies (Wrks) | Redwood Falls, MN | 05/21/2001 | Power Supplies
39,407 | Greer Steel Co (USWA) | Dover, OH | 05/07/2001 | Strip Steel Products

[FR Doc. 01-16845 Filed 7-3-01; 8:45 am]

BILLING CODE 4510-30-M